DEPARTMENT OF HOMELAND SECURITY

U.S. Customs and Border Protection

Agency Information Collection Activities: Arrival and Departure Record and Electronic System for Travel Authorization

AGENCY: U.S. Customs and Border Protection, Department of Homeland Security.

ACTION: 30-day notice and request for comments; Revision of an existing collection of information: 1651-0111.

SUMMARY: U.S. Customs and Border Protection (CBP) of the Department of Homeland Security will be submitting the following information collection request to the Office of Management and Budget (OMB) for review and approval in accordance with the Paperwork Reduction Act: CBP Form I-94W (Nonimmigrant Visa Waiver Arrival/Departure), and the Electronic System for Travel Authorization (ESTA). This is a proposed revision of an information collection that was previously approved. CBP is proposing that the data elements on CBP Form I-94W and ESTA be revised. This document is published to obtain comments from the public and affected agencies on the proposed revisions. This proposed information collection was previously published in the Federal Register (78 FR 70570) on November 26, 2013, allowing for a 60-day comment period. This notice allows for an additional 30 days for public comments. This process is conducted in accordance with 5 CFR 1320.10.

DATES: Written comments should be received on or before March 17, 2014 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information or for a copy of the new ESTA/I-94W questions should be directed to Tracey Denning, U.S. Customs and Border Protection, Regulations and Rulings, Office of International Trade, 90 K Street NE., 10th Floor, Washington, DC 20229-1177, at 202-325-0265.

SUPPLEMENTARY INFORMATION: CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual costs burden to respondents or record keepers from the collection of information (a total capital/startup costs and operations and maintenance costs). The comments that are submitted will be summarized and included in the CBP request for Office of Management and Budget (OMB) approval. All comments will become a matter of public record. In this document CBP is soliciting comments on the revision of the following information collection:

Title: Arrival and Departure Record, Nonimmigrant Visa Waiver Arrival/Departure, and Electronic System for Travel Authorization (ESTA).

OMB Number: 1651-0111.

Form Number: I-94W.

Abstract: CBP proposes to revise the questions on CBP Form I-94W and ESTA, which are required for Visa Waiver Program (VWP) travelers, in order to make them more easily understandable to respondents, and to collect more detailed information about health and security issues. CBP also proposes to remove some questions from CBP Form I-94W and ESTA that are no longer relevant.

CBP Form I-94W is used to document a VWP traveler's admission into the United States at land ports of entry. It is filled out by aliens and is used to collect information on citizenship, residency, and contact information for aliens traveling under the Visa Waiver Program (VWP). The data elements collected on CBP Form I-94W enable DHS to perform its mission related to the screening of alien visitors for potential risks to national security, and the determination of admissibility to the United States.

The Electronic System for Travel Authorization (ESTA) is the automated system that must be used by VWP travelers arriving at U.S. air and sea ports of entry. These travelers must provide the required data elements electronically to CBP and obtain a travel authorization through ESTA before embarking on travel to the United States.

ESTA can be accessed at http://www.cbp.gov/xp/cgov/travel/id_visa/esta/. Instructions and a sample of CBP Form I-94W can be viewed at http://forms.cbp.gov/pdf/visa_waiver.pdf.

Current Actions: This submission is being made to revise the information collected on ESTA and on Form I-94W by adding some new health and security questions; by revising some of the existing questions; and by removing some questions that are no longer relevant. The estimated number of I-94Ws filed annually was increased due to updated estimates. There is no change to the estimated time to complete ESTA or Form I-94W. There are no proposed changes to Form I-94.

Type of Review: Revision.

Affected Public: Individuals, Carriers, and the Travel and Tourism Industry.

Form I-94W (Nonimmigrant Visa Waiver Arrival/Departure)

Estimated Number of Respondents: 1,835,951.

Estimated Number of Total Annual Responses: 1,835,951.

Estimated Time per Response: 8 minutes.

Estimated Annual Burden Hours: 244,181.

Estimated Annual Cost to the Public: $11,015,706.

Electronic System for Travel Authorization (ESTA)

Estimated Number of Respondents: 21,910,000.

Estimated Number of Total Annual Responses: 21,910,000.

Estimated Time per Response: 15 minutes.

Estimated Total Annual Burden Hours: 5,477,500.

Estimated Annual Cost to the Public: $252,420,000.

Dated: February 10, 2014.
Tracey Denning,
Agency Clearance Officer, U.S. Customs and Border Protection.

[FR Doc. 2014-03327 Filed 2-13-14; 8:45 am]

BILLING CODE 9111-14-P